DEPARTMENT OF COMMERCE

International Trade Administration

[A-122-838]

Notice of Postponement of Preliminary Antidumping Duty Determination: Certain Softwood Lumber Products From Canada

AGENCY: Import Administration, International Trade Administration, Department of Commerce.

EFFECTIVE DATE: October 17, 2001.

FOR FURTHER INFORMATION CONTACT: Charles Riggle or Constance Handley, Office 5, Group II, Import Administration, International Trade Administration, U.S. Department of Commerce, 14th Street and Constitution Avenue NW., Washington, DC 20230; telephone (202) 482-0650, or (202) 482-0631, respectively.

Postponement of Preliminary Determination

The Department of Commerce (the Department) is postponing the deadline for issuance of the preliminary determination in the antidumping duty investigation of certain softwood lumber products from Canada until October 30, 2001.

On April 23, 2001, the Department initiated an antidumping investigation of certain softwood lumber products from Canada. See Initiation of Antidumping Duty Investigation: Certain Softwood Lumber Products from Canada, 66 FR 21328 (April 30, 2001). The notice stated that the Department would issue its preliminary determination no later than 140 days after the date of initiation (i.e., September 10, 2001). At the request of the petitioner,¹ on July 30, 2001, the Department postponed the date of preliminary determination by two weeks, until September 24, 2001. After a second request from the petitioner, on September 7, 2001, the Department further postponed the date of preliminary determination by three weeks, until October 15, 2001.

¹ Coalition for Fair Lumber Imports Executive Committee.

In accordance with section 733(c) of the Tariff Act of 1930, as amended, (the Act), on October 9, 2001, the Department concluded that this investigation is extraordinarily complicated and that additional time is necessary to make the preliminary determination. See October 9, 2001, Memorandum to Faryar Shirzad from Bernard Carreau. Additionally, the Department feels that the parties are cooperating in this investigation. Therefore, in accordance with section 733(c) of the Act, the Department is postponing until October 30, 2001 the deadline for issuing this preliminary determination.

Dated: October 11, 2001.
Faryar Shirzad,
Assistant Secretary for Import Administration.

[FR Doc. 01-26123 Filed 10-16-01; 8:45 am]

BILLING CODE 3510-DS-P